DEPARTMENT OF HEALTH AND HUMAN SERVICES

Administration for Children and Families

Proposed Information Collection Activity; Comment Request

Proposed Projects

Title: Rescue & Restore Regional Program Project Data.

OMB No.: 0970—NEW.

Description: The Trafficking Victims Protection Act of 2000 (TVPA), as amended, authorizes the Secretary of Health and Human Services (Secretary) to expand benefits and services to victims of severe forms of trafficking in persons in the United States, without regard to the immigration status of such victims. Such benefits and services may include services to assist potential victims of trafficking in achieving certification (Section 107(b)(1)(B) of the TVPA, 22 U.S.C. 7105(b)(1)(B)). It also authorizes the President, acting through the Secretary and the heads of other Federal departments, to establish and carry out programs to increase public awareness, particularly among potential victims of trafficking, of the dangers of trafficking and the protections that are available for victims of trafficking (Section 106(b) of the TVPA, 22 U.S.C. 7104(b)).

The Secretary delegated authority to carry out these responsibilities to the Assistant Secretary for Children and Families who further delegated the authority to the Director of the Office of Refugee Resettlement (ORR).

The intent of the Rescue & Restore Victims of Human Trafficking campaign, launched in 2004, is to increase the identification of trafficking victims in the United States and to help those victims receive the benefits and services they need to restore their lives. The purpose of the Rescue & Restore Victims of Trafficking Regional Program (Rescue & Restore Program) is to increase the identification and protection of foreign victims of human trafficking in the United States and to promote local capacity to prevent human trafficking and protect human trafficking victims. The Rescue & Restore Program also seeks to remove barriers to prevention and protection specific to foreign human trafficking victims who live in the United States.

The Rescue & Restore Program has the following objectives:

(1) Identification and Referral of Foreign Victims of Human Trafficking: To identify foreign victims of trafficking and refer them to service delivery systems.

(2) Training and Technical Assistance: To build local capacity by providing training and technical assistance on human trafficking to local organizations not involved in a local coalition.

(3) Coalition Building: To lead or actively participate in a community-led effort to bring together and leverage local resources to address human trafficking in a region, such as a Rescue & Restore Coalition or law enforcement task force (“coalition”).

(4) Public Awareness: To promote the public's awareness of human trafficking by educating the public about the dangers of human trafficking, possible indicators of sex and labor trafficking, and the protections available to victims.

To measure each grant project's performance progress and the success of the program, and to assist grantees to assess and improve their projects over the course of the project period, ACF proposes to require grantees to input numbers for each numeric indicator into a spreadsheet during the 36-month project period.

ACF proposes to collect data for the following indicators:

Identification and Referral of Foreign Victims of Human Trafficking

• The number of outreach events conducted by the grantee;

• The number of people reached at outreach events;

• The number of potential male and female, adult and minor foreign human trafficking victims identified through Rescue & Restore project efforts;

• The number of potential male and female, adult and minor foreign human trafficking victims referred by the grantee to service providers; and

• The number of male and female, adult and minor foreign human trafficking victims who receive Certification, Eligibility, and/or Interim Assistance Letters as a result of the grantee's efforts.

Training and Technical Assistance

• The number of persons in social service agencies, law enforcement agencies, and other relevant professional, community-based, and faith-based organizations who were trained by the grantee;

• The number of persons whose knowledge of human trafficking measurably increased as a result of grantee training as evidenced by the use of established practices in assessing learning; and

• The number of social service, law enforcement, health, legal, education, or other professionals provided technical assistance on identifying human trafficking victims and referring them for services or to law enforcement.

Coalition Building

• The number and percentage of coalition meetings led or attended by the grantee; and

• The number of coalition meetings in which the applicant proposed or promoted new or more efficient ways to combat human trafficking, improve coalition effectiveness, or assist trafficking victims in the targeted geographic location.

Public Awareness

• The number of people, distinguished by professional, occupational, community, or demographic sector, reached during strategic public awareness activities conducted by the grantee; and

• The number of people who reported knowledge of human trafficking information that was distributed as a result of the applicant's public awareness efforts.

In addition, ACF proposes to collect information on the victims and potential victims of trafficking (victims) identified as a result of each project's activities. ACF will not collect information about U.S. citizens or Lawful Permanent Residents. ORR will aggregate this information to include in reports to Congress, which are available to the public, to help inform strategies and policies to prevent trafficking in persons and to protect victims. This information will also help ORR assess the project's performance in identifying victims and referring them for services.

ORR proposes to collect the following information, if available, for each victim reached by a grant recipient or any partner organizations:

• Type of Trafficking (Labor, Sex, Labor and Sex, Unknown);

• Client Identifier (e.g., Initials, Date of Birth, and Country of Origin);

• Client information (Sex, Adult/Minor);

• Description of trafficking situation;

• Date that organization made contact with the victim began establishing trust and/or screened the person for victim status;

• Date that grantee positively identified person as a victim of a severe form of trafficking in persons;

• Documentation from the Department of Homeland Security (DHS) about the time of temporary status the victim is pursuing (e.g., Continued Presence, T Visa, U Visa, SIJS);

• Name of service agency assisting the victim;

• Date of HHS Certification or Eligibility; and

• Date the agency or victim terminated contact, with space for explanation.

Respondents: Rescue & Restore Victims of Human Trafficking Regional Program grantees.

Annual Burden Estimates
Instrument | Number of respondents | Number of responses per respondent | Average burden hours per response | Total burden hours
Excel spreadsheet | 20 | 4 | 4 | 16

Estimated Total Annual Burden Hours: 320.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-07606 Filed 4-4-14; 8:45 am]

BILLING CODE 4184-01-P